NATIONAL CAPITAL PLANNING COMMISSION

Privacy Act of 1974: System of Records

AGENCY: National Capital Planning Commission.

ACTION: Notice of a new System of Records.

SUMMARY: In accordance with the Privacy Act of 1974, the National Capital Planning Commission (NCPC or Commission) is providing notice of a new system of records (System of Records or Systems) titled, NCPC-3, Financial System. The categories of records to be adopted include any individual or organization that serves as a creditor to NCPC, including parties for which reimbursable services are performed and employees for expense reimbursements. New records incorporated into the System of Records include: Individual's names; tax identification number, which may be a Social Security Number in certain instances; addresses and other general contact information, such as phone numbers, Facsimile numbers, or email addresses; records of expenses (bills, refund checks, out-of-pocket travel expenses); records of payments; disbursement schedules; monies owed; and electronic financial institution data. Upon adoption the new System of Records will be titled NCPC-3, Financial System.

DATES: This document will become effective October 9, 2020. If no comments are received, the proposed System of Records will become effective on the stated date. If comments are received, they will be considered, and if adopted, the document will be republished in revised form.

ADDRESSES: You may submit written comments on this proposed System of Records Notice (Notice) by either of the methods listed below.

1. U.S. mail, courier, or hand delivery to Anne Schuyler, General Counsel/Privacy Act Officer/National Capital Planning Commission, 401 9th Street NW, Suite 500, Washington, DC 20004.

2. Electronically to privacy@ncpc.gov.

FOR FURTHER INFORMATION CONTACT: Anne R. Schuyler, General Counsel/Privacy Act Officer at 202-482-7200 or privacy@ncpc.gov.

SUPPLEMENTARY INFORMATION: The primary use of the System of Records includes use of information to pay individuals for reimbursable services and expenses. Other routine uses include, without limitation, sharing the information under certain enumerated circumstances with the Department of Justice; either House of Congress or a Congressional office, and other federal agencies and individuals. A complete listing of other routine uses will be adopted as an appendix that applies to this and all other NCPC System of Records to preclude redundancy (See, Appendix I of this Notice). Upon adoption the modified System of Records will be titled NCPC-3, NCPC Financial System.

The Privacy Act embodies fair information principles in a statutory framework governing the means by which the United States Government collects, maintains, uses, and disseminates individuals' records. The Privacy Act applies to information that is maintained in what is known as a System of Records. A System of Records is defined by the Privacy Act as a group of any records under the control of an agency from which information is retrieved by the name of the individual or by some identifying number, symbol, or other identifying particular assigned to the individual. In the Privacy Act, an individual is defined to encompass United States citizens and legal permanent residents.

As a matter of policy, NCPC extends administrative Privacy Act protection to all individuals for Systems of Records that contain information on U.S. citizens, lawful permanent residents, and visitors. Individuals may access their own records contained in a System of Records in the possession or under the control of NCPC in the manner described by NCPC's Privacy Act Regulations found at 1 CFR part 603.

The Privacy Act requires each agency to publish in the Federal Register a description of the type and character of each System of Records that the agency maintains and the routine uses for the records contained in each system. This requirement renders agency recordkeeping practices transparent, notifies individuals of the use to which their respective records are put, and assists individuals find records about themselves maintained by the agency. This notice complies with the requirements of the Privacy Act regarding Systems of Records and sets forth below the requisite information concerning NCPC's Financial System of Records.

In accordance with guidance provided by the Office of Management and Budget (OMB), NCPC provided a report of this new Systems of Records to OMB, to the House Committee on Oversight and Government Reform, and the Senate Committee on Governmental Affairs.

SYSTEM NAME AND NUMBER:

NCPC-3, NCPC Financial System.

SECURITY CLASSIFICATION:

Unclassified.

SYSTEM LOCATION:

The records containing financial information are located at NCPC, 401 9th Street NW, Suite 500 North, Washington, DC 20004.

SYSTEM MANAGERS:

For records indicated in the System Location above, information about the system manager can be obtained from NCPC's Director, Office of Administration, (202) 482-7200.

AUTHORITY FOR THE MAINTENANCE OF THE SYSTEM:

The National Capital Planning Act, 40 U.S.C. 8701 et seq. (2016); 5 U.S.C. 5701 et seq., Travel, Transportation, and Subsistence; 31 U.S.C. 7701(c); the Chief Financial Officers Act of 1990, Public Law 101-576; Executive Order 13478.

PURPOSE OF THE SYSTEM:

The purpose of the system is to collect and maintain the information from individuals in connection with reimbursable services provided to NCPC to ensure the agency properly pays these individuals. This system will allow NCPC to maintain payment records and record monies owed.

CATEGORIES OF INDIVIDUALS COVERED BY THE SYSTEM:

The category of records to be adopted include any individual or organization that serves as a creditor to NCPC, including parties for which reimbursable services are performed and employees for expense reimbursement.

CATEGORIES OF RECORDS IN THE SYSTEM:

New records incorporated into the System of Records include: Individual's names; tax identification number, which may be a Social Security Number in certain instances; addresses and other general contact information, such as phone numbers, facsimile numbers, or email addresses; records of expenses (bills, refund checks, out-of-pocket travel expenses); records of payments; disbursement schedules; monies owed; and electronic financial institution data.

RECORD SOURCE CATEGORIES:

Information originates with NCPC and individuals submitting supporting documentation for payments and reimbursement.

ROUTINE USES OF RECORDS MAINTAINED IN THE SYSTEM, INLCUDING CATGORIES OF USERS AND PURPOSES OF SUCH USE:

Records in this system are used by NCPC employees or contractors retained by NCPC to collect and maintain records related to the duties and transactions falling under the purview of NCPC fiscal functions. See, Appendix A for other ways the Privacy Act permits NCPC to disclose system records outside the agency.

POLICIES AND PRACTICES FOR STORAGE OF RECORDS:

NCPC stores records electronically in its computer system or on paper in secure facilities such as a locked office or file cabinet. The records may be stored on magnetic disc, tape, digital media, and paper.

POLICIES AND PRACTICES FOR RETRIEVAL OF RECORDS:

Records may be retrieved by an individual's name; tax identification number, which may be a Social Security number in certain instances; addresses and other general contact information, such as phone numbers, facsimile numbers, or email addresses.

POLICIES AND PRACTICES FOR RETENTION AND DISPOSAL OF RECORDS:

Records are retained until an individual requests deletion from the agency's list; a Commission member of alternative changes; distribution of information on a particular matter is no longer required because the matter is closed; or as otherwise prescribed under record schedules and procedures issued or approved by the National Archives and Records Administration (NARA).

ADMINISTRATIVE, TECHNICAL, AND PHYSICAL SAFEGUARDS:

Access to records is restricted to NCPC personnel or contractors whose responsibilities include access. Paper records are maintained in locked offices or file cabinets. Access to electronic records is controlled by use of a personal identity verification (PIV) ID card or a “user ID” and password combination and/or other electronic access and network controls (e.g., firewalls).

NCPC's offices are located in a public building guarded and monitored by security personnel, cameras, ID check, and other physical security measures. NCPC's office suite is accessed by means of an electronic key card system (employees) and clearance by an office receptionist (visitors). Visitors must sign-in, wear an identification badge, and be escorted by NCPC personnel during their visit to other than public portions of the office (public portions include the Commission chambers and adjacent meeting room). NCPC's suite entrances are also monitored by electronic surveillance.

Records processed, stored or transmitted and used by contractors are protected by controls implemented by the vendor pursuant to terms incorporated into its contract with NCPC.

RECORD ACCESS PROCEDURES:

Individuals seeking access to a record pertaining to them in the System of Records described herein shall follow the procedures in set forth in NCPC's Privacy Act Regulations contained in 1 CFR part 603. The request should be directed to: NCPC Privacy Act Officer, National Capital Planning Commission, 401 9th Street NW, Suite 500, Washington, DC 20004.

CONTESTING RECORD PROCEDURES:

Individuals seeking to contest the content of a record contained in the System of Records described in this Notice shall follow the procedures set forth in Record Access Procedures above.

NOTIFICATION PROCEDURES:

Individuals seeking to determine if the System of Records described in this Notice contains a record pertaining to him/her shall follow the procedures set forth in Record Access Procedures above.

EXEMPTIONS PROMULGATED FOR THE SYSTEM:

None.

HISTORY:

None.

Dated: September 2, 2020.
Anne R. Schuyler,
General Counsel.

[FR Doc. 2020-19819 Filed 9-8-20; 8:45 am]

BILLING CODE P